DEPARTMENT OF STATE

[Public Notice 8093]

Shipping Coordinating Committee; Notice of Committee Meeting

The Shipping Coordinating Committee (SHC) will conduct an open meeting at 10 a.m. on Tuesday December 18, 2012, at the offices of the Radio Technical Commission for Maritime Services (RTCM), 1611 N. Kent Street, Suite 605, Arlington, Va. 22209. The primary purpose of the meeting is to prepare for the 56th Session of the International Maritime Organization's (IMO) Sub-Committee on Fire Protection (FP 56) to be held at the IMO Headquarters, United Kingdom, January 7-11, 2013.

The agenda items to be considered include:

—Development of measures to prevent explosions on oil and chemical tankers transporting low flash point cargoes

—Development of requirements for the fire resistance of ventilation ducts

—Review of fire protection requirements for on-deck cargoes

—Review of the recommendations on evacuation analysis for new and existing passenger ships

—Development of requirements for additional means of escape from machinery spaces

—Development of requirements for ships carrying hydrogen and compressed natural gas vehicles

—Consideration of IACS unified interpretations

—Harmonization of the requirements for the location of entrances, air inlets and openings in the superstructures of tankers

—Development of unified interpretations for Chapter 7 of the 2000 HSC Code

—Development of guidelines for use of fibre reinforced plastic (FRP) within ships structures

—Analysis of fire casualty records

—Development of amendments to SOLAS chapter II-2, the FTP Code and MSC/Circ. 1120 to clarify the requirements for plastic pipes on ships

—Consideration of amendments to SOLAS chapter II-2 on location of EEBDs

—Development of amendments to the requirements for foam-type fire extinguishers in SOLAS regulation II-2/10.5

—Development of amendments to SOLAS regulation II-2/20 and associated guidance on air quality management for ventilation of closed vehicle spaces, closed ro-ro and special category spaces

—Review of general cargo ship safety

—Development of interpretation of SOLAS regulation II-2/13.6 on means of escape from ro-ro spaces

—Any other business

Members of the public may attend this meeting up to the seating capacity of the room. To facilitate the building security process, and to request reasonable accommodation, those who plan to attend should contact the meeting coordinator, Mr. Randall Eberly, by email at randall.eberly@uscg.mil, by phone at (202) 372-1393, by fax at (202) 372-1925, or in writing at Commandant (CG-ENG-4), U.S. Coast Guard, 2100 2nd Street SW., Stop 7126, Washington, DC 20593-7126 not later than December 11, 2012, 7 days prior to the meeting. Requests made after December 11, 2012 might not be able to be accommodated. RTCM Headquarters is adjacent to the Rosslyn Metro station. For further directions and lodging information, please see: http://www.rtcm.org/visit.php. Additional information regarding this and other IMO SHC public meetings may be found at: www.uscg.mil/imo.

Dated: November 14, 2012.
Brian Robinson,
Executive Secretary, Shipping Coordinating Committee, Department of State.

[FR Doc. 2012-28610 Filed 11-23-12; 8:45 am]

BILLING CODE 4710-09-P